DEPARTMENT OF HOMELAND SECURITY

Coast Guard

33 CFR Part 117

[Docket No. USCG-2011-0378]

Drawbridge Operation Regulation; New Jersey Intracoastal Waterway (NJICW), Inside Thorofare, Atlantic City, NJ

AGENCY: Coast Guard, DHS.

ACTION: Notice of temporary deviation from regulations.

SUMMARY: The Commander, Fifth Coast Guard District, has issued a temporary deviation from the regulations governing the operation of the US40-322 (Albany Avenue) Bridge, at NJICW mile 70.0, across Inside Thorofare in Atlantic City, NJ. The deviation restricts the operation of the draw span in order to facilitate the free movement of vehicles over the bridge during the Dave Matthews Band three-day series of concerts and fireworks display.

DATES: This deviation is effective from 7 a.m. on June 24, 2011 until 2 a.m. on June 27, 2011.

ADDRESSES: Documents mentioned in this preamble as being available in the docket are part of docket USCG-2011-0378 and are available online by going to http://www.regulations.gov, inserting USCG-2011-0378 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The New Jersey Department of Transportation owns and operates this bascule drawbridge and has requested a temporary deviation from the current operating regulations set out in 33 CFR 117.733(f) to facilitate the free movement of 70,000 fans and vehicles during the three-day concert and fireworks display.

The US40-322 (Albany Avenue) Bridge, at NJICW mile 70.0 across Inside Thorofare in Atlantic City, NJ has a vertical clearance in the closed position to vessels of 10 feet above mean high water.

Under normal operating conditions the draw would open on signal, except that:

(1)Year-round, from 11 p.m. to 7 a.m. and from November 1 through March 31 from 3 p.m. to 11 p.m. the draw need only open if at least four hours notice is given; and

(2)From June 1 through September 30:

(i) from 9 a.m. to 4 p.m. and from 6 p.m. to 9 p.m., the draw need only open on the hour and half hour; and (ii) from 4 p.m. to 6 p.m., the draw need not open.

Under this temporary deviation, beginning at 8 a.m. on Friday June 24, 2011 and ending at 2 a.m. on Monday June 27, 2011, the Albany Avenue Bridge will open according to the following schedule: The drawbridge will only open on signal at 8 a.m., 10 a.m., 12 noon, 2 p.m., 4 p.m., 6 p.m., 8 p.m., and the bridge will open between 2 a.m. and 7 a.m. with four hours advance notice provided. The drawbridge will not open on signal, except as provided in this paragraph.

The drawbridge will be able to open in the event of an emergency. Vessels that can pass under the bridge without a bridge opening may do so at all times. Vessels with heights greater than 10 feet could use an alternate route. One alternate route is by way of the Atlantic Ocean.

The Coast Guard will inform the users of the waterway through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: May 12, 2011.
Waverly W. Gregory, Jr.,
Bridge Program Manager, By direction of the Commander, Fifth Coast Guard District.

[FR Doc. 2011-12674 Filed 5-23-11; 8:45 am]

BILLING CODE 9110-04-P